CORPORATION FOR NATIONAL AND COMMUNITY SERVICE

45 CFR Part 2552

RIN 3045-AA29

Foster Grandparent Program; Amendments

AGENCY: Corporation for National and Community Service.

ACTION: Final rule.

SUMMARY: These amendments to the regulations governing the Foster Grandparent Program (FGP) modify provisions concerning deductions for medical expenses and the allowability of certain volunteer expense items.

The specific amendments are as follows: Section 2552.42(c) is modified to increase the ceiling on medical expenses that may be deducted for determining income for eligibility purposes from 15 percent to 50 percent of the applicable income guideline; and §§ 2552.45 and 2552.93(d) are modified to allow project funds, including the required non-federal share, to be used to reimburse volunteers for expenses, including transportation costs, incurred while performing volunteer assignments, and for purchase of equipment or supplies for volunteers on assignment.

DATES: These amendments are effective as of April 14, 2004.

FOR FURTHER INFORMATION CONTACT: Peter L. Boynton, 202-606-5000, ext. 499.

SUPPLEMENTARY INFORMATION: The Corporation published a notice of proposed rulemaking (NPRM) for the Foster Grandparent Program, 45 CFR part 2552, in the Federal Register at 69 FR 6227, dated February 10, 2004.

Summary of Main Comments

In response to the Corporation's invitation in the notice of proposed rulemaking, the Corporation received 37 responses addressing the proposed amendments to the Foster Grandparent Program rules. All 37 supported the proposed amendments modifying the medical expense deduction. Those who provided explanations for why they favored these amendments generally noted that it would permit a larger number of individuals with high medical expenses to serve, thus increasing the number of income-eligible volunteers and broadening their recruitment potential. Several noted that they have had to turn away volunteers who were only slightly over income, and this change would have enabled them to be enrolled. Concerning the amendments that would allow project funds to be used to reimburse volunteers for certain expenses that now may be paid only by the volunteer station, 21 responses expressed support, 1 was undecided due to concern about budgetary implications, and 15 did not comment. Reasons cited for supporting the amendment included: (a) The value of increased flexibility to manage funds in accordance with local needs, (b) the special circumstances of rural areas, (c) the desire to provide Foster Grandparents with certain supplies that they can use on any assignment, regardless of the volunteer station they are assigned to, and (d) the flexibility may be needed at some future time. Other specific comments and the Corporation's responses follow:

Comment: In addition to increasing the medical expense deduction, the income eligibility guidelines for Foster Grandparents should be increased or eliminated.

Response: The Domestic Volunteer Service Act currently stipulates that volunteers receiving stipends must have incomes at or below 125% of the poverty level. This provision may not be changed by regulation. In “Principles and Reforms for a Citizen Service Act,” issued by President Bush April 9, 2002, the Administration proposed to eliminate the limits on income of Foster Grandparents receiving stipends. This continues to be the position of the Administration.

Comment: Expressed concern about how a project would meet any additional costs associated with paying for assignment-related volunteer expenses.

Response: Under the modified regulation, grantees are free to establish their own policies regarding which assignment-related expenses volunteer stations must be responsible for under the memorandum of understanding between the grantee and the volunteer station. For example, a grantee may, if it wishes, decide to continue to require its volunteer stations to be responsible for all such costs. However, the modifications give a grantee the flexibility to raise cash or in-kind contributions specifically to offset assignment-related costs, if it chooses to do so.

Impact of Various Acts and Executive Orders

After carefully reviewing the changes implemented by this amendment, and after coordination with the Office of Management and Budget, it was determined that:

(1) This was a significant regulatory action under section 3(f)(4) of Executive Order 12866 “Regulatory Planning and Review”, and required a review by the Office of Management and Budget;

(2) The Corporation hereby certifies that the Regulatory Flexibility Act does not apply because there is no “significant economic impact on a substantial number of small entities”;

(3) That the Unfunded Mandates Reform Act of 1995 (2 U.S.C. chapter 25, subchapter II) does not apply because the amendment does not result in any annual expenditures of $100 million by State, local, Indian Tribal governments or the private sector;

(4) That the Paperwork Reduction Act does not apply because the amendments do not impose any additional reporting or record-keeping requirements;

(5) That the Small Business Regulatory Enforcement Fairness Act of 1996 does not apply because it is not a major rule as defined by section 251 of the Small Business Regulatory Enforcement Fairness Act of 1996, and would not result in an annual effect on the economy of $100 million or more; result in an increase in cost or prices; or have significant adverse effects on competition, employment, investment, productivity, innovation, or on the ability of United States-based companies to compete with foreign-based companies in domestic and export markets; and

(6) That Executive Order 13132, “Federalism” does not apply because it would not have substantial direct effects on the States or the relationship between the national government and the States.

List of Subjects in 45 CFR Part 2552

Aged, Grant programs—social programs, Volunteers.

For the reasons set forth in the preamble, the Corporation for National and Community Service amends 45 CFR part 2552 as follows:

PART 2552—FOSTER GRANDPARENT PROGRAM

1. The authority citation for part 2552 continues to read as follows:

Authority: 42 U.S.C. 4950 et seq.

§ 2552.42 [Amended]

2. In § 2552.42(c), remove the phrase “15 percent” and add in its place the phrase “50 percent”.

3. In § 2552.45, add a new paragraph (f), as follows:

§ 2552.45 What cost reimbursements are provided to Foster Grandparents?

* * * * *

(f) Other Volunteer Expenses. Foster Grandparents may be reimbursed for expenses incurred while performing their volunteer assignments provided these expenses are described in the Memorandum of Understanding negotiated with the volunteer station to which the volunteer is assigned and meet all other requirements identified in the notice of grant award.

§ 2552.93 [Amended]

4. In § 2552.93, remove paragraph (d) and redesignate paragraphs (e) through (i) as (d) through (h) accordingly.

Dated: April 7, 2004.
Tess Scannell,
Director, National Senior Service Corps.

[FR Doc. 04-8405 Filed 4-13-04; 8:45 am]

BILLING CODE 6050-$$-P